FEDERAL MINE SAFETY AND HEALTH REVIEW COMMISSION

Sunshine Act Meetings

TIME AND DATE: 10 a.m., Tuesday, November 14, 2023.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor on behalf of Hargis v. Vulcan Construction Materials, LLC, Docket Nos. SE 2021-0163, et al. (Issues include whether the Judge erred in terminating economic temporary reinstatement on the date he issued the merits decision; (2) whether the Judge erred in dismissing the Complainant's discrimination case on the basis that there was no improper discriminatory motive; and (3) whether the Judge erred in finding that the operator failed to report an occupational injury, in violation of 30 CFR 50.20(a).)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Phone Number for Listening to Meeting: 1-(866) 236-7472; Passcode: 678-100.

Authority: 5 U.S.C. 552b.

Dated: November 1, 2023.
Michael A. McCord,
General Counsel.

[FR Doc. 2023-24512 Filed 11-1-23; 4:15 pm]

BILLING CODE 6735-01-P